DEPARTMENT OF ENERGY

Federal Energy Regulatory Commission

Combined Notice of Filings #1

Take notice that the Commission received the following electric rate filings:

Docket Numbers: ER10-2564-010; ER10-2600-010; ER10-2289-010; EL21-48-000.

Applicants: UniSource Energy Development Company, Tucson Electric Power Company, UNS Electric, Inc., Tucson Electric Power Company.

Description: Response to September 9, 2021 Deficiency Letter: Workpapers Associated with the December 23, 2020 Notice of Non-Material Change in Status of Tucson Electric Power Company.

Filed Date: 10/12/21.

Accession Number: 20211012-0017.

Comment Date: 5 p.m. ET 11/1/21.

Docket Numbers: ER20-681-003.

Applicants: Tri-State Generation and Transmission Association, Inc.

Description: Amendment to June 30, 2021 Triennial Market Power Analysis for Southwest Power Pool, Inc. Region of Tri-State Generation and Transmission Association, Inc.

Filed Date: 10/12/21.

Accession Number: 20211012-5431.

Comment Date: 5 p.m. ET 11/2/21.

Docket Numbers: ER21-142-000.

Applicants: System Energy Resources, Inc.

Description: Petition on Behalf of the Louisiana Public Service Commission for Appointment of Discovery Master or Settlement Judge, Motion to Compel System Energy Resources, Inc. to Respond to Discovery, and Motion for Extension, etc.

Filed Date: 10/6/21.

Accession Number: 20211006-5141.

Comment Date: 5 p.m. ET 10/27/21.

Docket Numbers: ER22-96-000.

Applicants: Route 66 Solar Energy Center, LLC.

Description: Baseline eTariff Filing: Route 66 Solar Energy Center, LLC Application for Market-Based Rate Authority to be effective 12/13/2021.

Filed Date: 10/13/21.

Accession Number: 20211013-5054.

Comment Date: 5 p.m. ET 11/3/21.

Docket Numbers: ER22-97-000.

Applicants: New England Power Company.

Description: § 205(d) Rate Filing: Filing of Local Service Agreement with Sterling Municipal Light Department to be effective 12/13/2021.

Filed Date: 10/13/21.

Accession Number: 20211013-5087.

Comment Date: 5 p.m. ET 11/3/21.

Take notice that the Commission received the following electric securities filings:

Docket Numbers: ES22-1-000; ES22-2-000; ES22-3-000; ES22-4-000; ES22-5-000; ES22-6-000.

Applicants: AEP Appalachian Transmission Company, Inc., AEP Indiana Michigan Transmission Company, Inc., AEP Kentucky Transmission Company, Inc., AEP Oklahoma Transmission Company, Inc., AEP Southwestern Transmission Company, Inc., AEP West Virginia Transmission Company, Inc., AEP Appalachian Transmission Company, Inc., AEP Indiana Michigan Transmission Company, Inc., AEP Kentucky Transmission Company, Inc., AEP Oklahoma Transmission Company, Inc., AEP Southwestern Transmission Company, Inc., AEP West Virginia Transmission Company, Inc., AEP Appalachian Transmission Company, Inc., AEP Indiana Michigan Transmission Company, Inc., AEP Kentucky Transmission Company, Inc., AEP Oklahoma Transmission Company, Inc., AEP Southwestern Transmission Company, Inc., AEP West Virginia Transmission Company, Inc., AEP Appalachian Transmission Company, Inc., AEP Indiana Michigan Transmission Company, Inc., AEP Kentucky Transmission Company, Inc., AEP Oklahoma Transmission Company, Inc., AEP Southwestern Transmission Company, Inc., AEP West Virginia Transmission Company, Inc., AEP Appalachian Transmission Company, Inc., AEP Indiana Michigan Transmission Company, Inc., AEP Kentucky Transmission Company, Inc., AEP Oklahoma Transmission Company, Inc., AEP Southwestern Transmission Company, Inc., AEP West Virginia Transmission Company, Inc., AEP Appalachian Transmission Company, Inc., AEP Indiana Michigan Transmission Company, Inc., AEP Kentucky Transmission Company, Inc., AEP Oklahoma Transmission Company, Inc., AEP Southwestern Transmission Company, Inc., AEP West Virginia Transmission Company, Inc.

Description: Application Under Section 204 of the Federal Power Act for Authorization to Issue Securities of AEP Appalachian Transmission Company, Inc., et al.

Filed Date: 10/12/21.

Accession Number: 20211012-5444.

Comment Date: 5 p.m. ET 11/2/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 13, 2021.
Debbie-Anne A. Reese,
Deputy Secretary.

[FR Doc. 2021-22721 Filed 10-18-21; 8:45 am]

BILLING CODE 6717-01-P